DEPARTMENT OF TRANSPORTATION

Surface Transportation Board

[Docket No. FD 35362]

Elgin, Joliet and Eastern Railway Company—Trackage Rights Exemption—Chicago, Central & Pacific Railroad Company

Pursuant to a written amended trackage rights agreement dated March 22, 2010, Chicago, Central & Pacific Railroad Company (CCP) has agreed to amend its existing overhead trackage rights agreement with Elgin, Joliet and Eastern Railway Company (EJ&E) over 27.4 miles of rail line owned by CCP between milepost 35.7 in Munger, Ill., and milepost 8.3 at Belt Crossing, Ill.¹

¹ EJ&E and CCP are indirect subsidiaries of Canadian National Railway Company. EJ&E states that the Amended Agreement modifies the original trackage rights previously granted to EJ&E when it was known as EJ&E West Company.

EJ&E proposes a consummation date of May 6, 2010, but the earliest the transaction may be consummated is May 7, 2010, the effective date of the exemption (30 days after the exemption is filed).

Under the agreement, the amended trackage rights will allow EJ&E to interchange traffic with CCP at CCP's Hawthorne Yard, an intermediate point between Munger and Belt Crossing at or near milepost 8.9.

As a condition to this exemption, any employees affected by the acquisition of the trackage rights will be protected by the conditions imposed in Norfolk and Western Railway Co.—Trackage Rights—Burlington Northern, Inc., 354 I.C.C. 605 (1978), as modified in Mendocino Coast Railway, Inc.—Lease and Operate—California Western Railroad, 360 I.C.C. 653 (1980).

This notice is filed under 49 CFR 1180.2(d)(7). If the notice contains false or misleading information, the exemption is void ab initio. Petitions to revoke the exemption under 49 U.S.C 10502(d) may be filed at any time. The filing of a petition to revoke will not automatically stay the effectiveness of the exemption. Stay petitions must be filed by April 30, 2010 (at least 7 days before the exemption becomes effective).

An original and 10 copies of all pleadings, referring to Docket No. FD 35362, must be filed with the Surface Transportation Board, 395 E Street, SW., Washington, DC 20423-0001. In addition, a copy of each pleading must be served on Jeremy M. Berman, Fletcher & Sippel LLC, 29 N. Wacker Drive, Suite 920, Chicago, IL 60606-2832.

Board decisions and notices are available on our Web site at: http://www.stb.dot.gov.

Decided: April 19, 2010.
By the Board, Rachel D. Campbell, Director, Office of Proceedings.
Jeffrey Herzig,
Clearance Clerk.

[FR Doc. 2010-9449 Filed 4-22-10; 8:45 am]

BILLING CODE 4915-01-P